DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by January 19, 2005.

Title, Form, and OMB Number: Base Realignment and Closure (BRAC) Military Base Reuse Status; DD Form 2740; OMB Control Number 0790-0003.

Type of Request: Extension.

Number of Respondents: 75.

Responses Per Respondent: 1.

Annual Responses: 75.

Average Burden Per Response: 1 hour.

Annual Burden Hours: 75.

Needs and Uses: The information collection requirement is necessary to evaluate and measure program performance through civilian job creation and type of redevelopment at former military installations. The respondents to the annual survey (formerly semi-annual) are the single points of contact at the local level responsible for overseeing redevelopment efforts. This data is collected to provide OEA accurate information regarding civilian reuse of former military bases, and thus information on the results of its grant-making. The collected information is incorporated into an Annual Report to Congress.

Affected Public: Business or other for-profit; Federal government; State, local or tribal government.

Frequency: Annually.

Respondent's Obligation: Voluntary.

OMB Desk Officer: Mr. Lewis Oleinick.

Written comments and recommendations on the proposed information collection should be sent to Mr. Oleinick at the Office of Management and Budget, Desk Officer for DoD, Room 10236, New Executive Office Building, Washington, DC 20503.

DOD Clearance Officer: Ms. Patricia Toppings.

Written requests for copies of the information collection proposal should be sent to Ms. Toppings., WHS/ESCD/Information Management Division, 1225 South Clark Street, Suite 504, Arlington, VA 22202-4326.

Dated: December 10, 2004.
Patricia L. Toppings,
Alternate OSD Federal Register Liaison Officer, Department of Defense.

[FR Doc. 04-27756 Filed 12-20-04; 8:45 am]

BILLING CODE 5001-06-M